Memorandum of December 27, 2021

Maximizing Assistance to Respond to COVID-19

Memorandum for the Secretary of Health and Human Services[,] the Secretary of Homeland Security[, and] the Administrator of the Federal Emergency Management Agency

By the authority vested in me as President by the Constitution and the laws of the United States of America, including the Robert T. Stafford Disaster Relief and Emergency Assistance Act, 42 U.S.C. 5121-5207 (the “Stafford Act”), I hereby order as follows:

Section 1. Policy. It is the policy of my Administration to combat and respond to the coronavirus disease 2019 (COVID-19) pandemic with the full capacity and capability of the Federal Government to protect and support our families, schools, and businesses, and to assist State, local, Tribal, and territorial governments to do the same. This policy includes the use of emergency and disaster assistance available from the Federal Emergency Management Agency (FEMA) to get COVID-19 testing to the places that need it most.

Sec. 2. Assistance for COVID-19 Screening as an Emergency Protective Measure. (a) With respect to a request to FEMA from any State, Tribal, or territorial government for direct Federal assistance to establish or expand COVID-19 testing sites, the Administrator of FEMA shall issue a mission assignment to the Department of Health and Human Services (HHS), on a fully reimbursable basis, to provide testing sites, launched and operated by HHS in close coordination with State, local, Tribal, and territorial public health departments.

(b) FEMA's mission assignments will require HHS to adjudicate State, Tribal, and territorial requests through the Emergency Support Function #8 Advisory Council.

(c) FEMA shall fund 100 percent of the cost of activities associated with the mission assignments to HHS to provide COVID-19 testing sites as described in section 2(a) of this memorandum, as authorized by sections 403 (42 U.S.C. 5170b), 502 (42 U.S.C. 5192), and 503 (42 U.S.C. 5193) of the Stafford Act.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Administrator of FEMA is authorized and directed to publish this memorandum in the Federal Register.

THE WHITE HOUSE,

Washington, December 27, 2021

[FR Doc. 2021-28520

Filed 12-30-21; 8:45 am]

Billing code 9111-23-P